COMMITTEE FOR PURCHASE FROM PEOPLE WHO ARE BLIND OR SEVERELY DISABLED

Procurement List; Proposed Additions

AGENCY: Committee for Purchase From People Who Are Blind or Severely Disabled.

ACTION: Proposed additions to the procurement list.

SUMMARY: The Committee is proposing to add products to the Procurement List that will be furnished by nonprofit agencies employing persons who are blind or have other severe disabilities.

DATES: Comments Must Be Received On Or Before: 3/2/2015.

ADDRESSES: Committee for Purchase From People Who Are Blind or Severely Disabled, 1401 S. Clark Street, Suite 715, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

PRODUCT NAMEs/NSNs: Pen, 1.4mm Bold, Ballpoint with Clip, Cushion Grip, Black Ink, Refillable/7520-00-NIB-1969

Pen, 1.4mm Bold, Ballpoint with Clip, Cushion Grip, Blue Ink, Refillable/7520-00-NIB-1970

Pen, 1.4mm Bold, Ballpoint with Clip, Cushion Grip, Red Ink, Refillable/7520-00-NIB-1971

MANDATORY SOURCE OF SUPPLY: Industries of the Blind, Inc., Greensboro, NC

MANDATORY FOR PURCHASE BY: Total Government Requirement

CONTRACTING ACTIVITY: General Services Administration, New York, NY

LIST TYPE: A-List

PRODUCT NAMEs/NSNs: Pen, Stick, Plastic Fine Point, Water Resistant Permanent Black Ink 7520-00-NIB-2284

Pen, Stick, Plastic Fine Point, Water Resistant Permanent Blue Ink 7520-00-NIB-2285

Pen, Stick, Plastic Fine Point, Water Resistant Permanent Red Ink 7520-00-NIB-2286

Pen, Stick, Plastic Medium Point, Water Resistant Permanent Black Ink/7520-00-NIB-2289

Pen, Stick, Plastic Medium Point, Water Resistant Permanent Blue Ink 7520-00-NIB-2290

Pen, Stick, Plastic Medium Point, Water Resistant Permanent Red Ink 7520-00-NIB-2291

MANDATORY SOURCE OF SUPPLY: Winston-Salem Industries for the Blind, Inc., Winston-Salem, NC

MANDATORY FOR PURCHASE BY: Total Government Requirement/Broad Government Requirement

CONTRACTING ACTIVITY: General Services Administration, New York, NY

LIST TYPEs: A-List (-2284 thru -2286 and -2289)

B-List (-2290 thru -2291)

Barry S. Lineback,
Director, Business Operations.

[FR Doc. 2015-01786 Filed 1-29-15; 8:45 am]

BILLING CODE 6353-01-P